FEDERAL COMMUNICATIONS COMMISSION

47 CFR Part 15

[ET Docket No. 13-49; FCC 14-30]

Unlicensed National Information Infrastructure (U-NII) Devices in the 5 GHz Band

AGENCY: Federal Communications Commission.

ACTION: Correcting amendment.

SUMMARY: On April 1, 2014, the Commission released a Report and Order, “Unlicensed National Information Infrastructure (U-NII) Devices in the 5 GHz Band.” This document contains corrections to the final regulations for “Unlicensed National Information Infrastructure (U-NII) Devices in the 5 GHz Band” that appeared in the Federal Register on May 1, 2014 (79 FR 24569).

DATES: Effective December 23, 2014.

FOR FURTHER INFORMATION CONTACT: Aole Wilkins, Office of Engineering and Technology, (202) 418-2406 or email Aole.Wilkins@fcc.gov.

SUPPLEMENTARY INFORMATION:

Background

The final regulations that are the subject of this correction relates to “Unlicensed National Information Infrastructure (U-NII) Devices in the 5 GHz Band” under § 15.407(a)(1).

Need for Correction

As published, the revised text in the final regulations contains errors that are misleading and need immediate correction.

List of Subjects in 47 CFR Part 15

Communications equipment, Radio.

Accordingly, 47 CFR part 15 is corrected by making the following correcting amendment:

PART 15—RADIO FREQUENCY DEVICES

1. The authority citation for part 15 continues to read as follows:

Authority: 47 U.S.C. 154, 302a, 303, 304, 307, 336, 544a, and 549.

2. Section 15.407 is amended by revising paragraph (a)(1)(iii) to read as follows:

§ 15.407 General technical requirements.

(a) * * *

(1) * * *

(iii) For fixed point-to-point access points operating in the band 5.15-5.25 GHz, the maximum conducted output power over the frequency band of operation shall not exceed 1 W. In addition, the maximum power spectral density shall not exceed 17 dBm in any 1 megahertz band. Fixed point-to-point U-NII devices may employ antennas with directional gain up to 23 dBi without any corresponding reduction in the maximum conducted output power or maximum power spectral density. For fixed point-to-point transmitters that employ a directional antenna gain greater than 23 dBi, a 1 dB reduction in maximum conducted output power and maximum power spectral density is required for each 1 dB of antenna gain in excess of 23 dBi. Fixed, point-to-point operations exclude the use of point-to-multipoint systems, omnidirectional applications, and multiple collocated transmitters transmitting the same information. The operator of the U-NII device, or if the equipment is professionally installed, the installer, is responsible for ensuring that systems employing high gain directional antennas are used exclusively for fixed, point-to-point operations.

* * * * *

Federal Communications Commission.
Marlene H. Dortch,
Secretary.

[FR Doc. 2014-29858 Filed 12-22-14; 8:45 am]

BILLING CODE 6712-01-P